CORPORATION FOR NATIONAL AND COMMUNITY SERVICE

Sunshine Act Meeting

The Board of Directors of the Corporation for National and Community Service gives notice of the following meeting:

Date and Time: Tuesday, February 11, 2003, 9:15 a.m.-12 p.m.

Place: Corporation for National and Community Service, 1201 New York Avenue, NW., 8th Floor, Room 8410, Washington, DC 20525.

Status: Open.

Matters to be Considered:

I. Chair's Opening Remarks.

II. Consideration of Prior Meeting's Minutes.

III. Committee Reports.

IV. Youth and State Service Commissions Panel Presentation.

V. White House Task Force on Disadvantaged Youth.

VI. Martin Luther King, Jr. Day of Service—Philadelphia, PA.

VII. National Association of Service Conservation Corps.

Accommodations: Anyone who needs an interpreter or other accommodation should notify the Corporation's contact person.

Contact Person for more Information: Michele Tennery, Senior Associate, Public Affairs, Corporation for National and Community Service, 8th Floor, Room 8601, 1201 New York Avenue NW., Washington, DC 20525. Phone (202) 606-5000 ext. 125. Fax (202)565-2784. TDD: (202) 565-2799. E-mail: mtennery@cns.gov.

Dated: January 30, 2003.
Frank R. Trinity,
General Counsel.

[FR Doc. 03-2518 Filed 1-30-03; 11:43 am]

BILLING CODE 6050-$$-P